DEPARTMENT OF TRANSPORTATION

Pipeline and Hazardous Materials Safety Administration

[Docket No. PHMSA-2019-0130; Notice No. 2019-07]

Hazardous Materials: Unapproved Foreign-Made DOT Cylinders

AGENCY: Pipeline and Hazardous Materials Safety Administration (PHMSA), Department of Transportation (DOT).

ACTION: Safety advisory notice.

SUMMARY: PHMSA is issuing this safety advisory notice to inform the public, industrial gas stakeholders, and relevant government officials of the risks associated with requalifying, filling, and transporting cylinders bearing the DOT specification markings “DOT 4E” or “DOT 4BA” that were produced by a company located in Thailand by the name of Metal Mate. Metal Mate does not have an approval from PHMSA to manufacture cylinders to DOT specifications; therefore, cylinders marked with the Metal Mate name are not DOT specification cylinders. They must not be used to transport hazardous materials in commerce to, from, or within the United States, or on a United States-registered aircraft. These cylinders may not perform to the marked DOT performance standard and may not be safe for commercial transportation or consumer use.

FOR FURTHER INFORMATION CONTACT: The Hazardous Materials Information Center, (202) 366-4488 or 1-800-467-4922; infocntr@dot.gov.

SUPPLEMENTARY INFORMATION: PHMSA has become aware that a company located in Thailand by the name of Metal Mate has been producing and selling propane cylinders that were marked as “DOT 4E” without an approval from PHMSA. PHMSA is aware of two cylinders found in Australia that were marked as “DOT 4E 240” with Metal Mate's name marked as the manufacturer. Third party testing revealed that the cylinders may not meet the DOT 4E standard. Additionally, another cylinder produced by Metal Mate and marked as “DOT 4E” has been found in Colombia. Metal Mate cylinders can be identified by the name “Metal Mate” and “MM” logo stamped into the cylinder collar adjacent to other cylinder markings (water capacity, test pressure, serial number, original test date).

PHMSA has also received information that Metal Mate is producing cylinders that are being marked as “DOT 4BA 240.” Evidence indicates that Metal Mate has shipped cylinders as marked to both Bangladesh and New Zealand.

Federal hazardous materials transportation law (49 U.S.C. 5101-5128) authorizes the Secretary of Transportation (Secretary) to establish regulations to safely transport hazardous materials in intrastate, interstate, and foreign commerce. It also authorizes the Secretary to apply these regulations to persons who manufacture or maintain a packaging or a component of a packaging that is represented, marked, certified, or sold as qualified for use in the transportation of a hazardous material in commerce (see 49 CFR 171.1). The Secretary delegated this authority to PHMSA in 49 CFR 1.97(b). As stated in 49 CFR 178.2(b), marking a packaging with a DOT specification, e.g., “DOT 4E 240,” means that all requirements of the marked DOT specification have been met and each action performed by, or for, the person whose name or symbol appears on the cylinder marking meets the requirements specified in part 178. These requirements include multiple tests for DOT 4BA and DOT 4E cylinders. For DOT 4E cylinders, the specification also requires a chemical analysis (see 49 CFR 178.51 for the specification requirements for DOT 4BA cylinders, and § 178.68 for the specification requirements for DOT 4E cylinders).

Pursuant to 49 CFR 107.807(a), a foreign manufacturer who seeks to manufacture DOT specification cylinders must obtain an approval from PHMSA that permits that manufacturer to perform the required chemical analyses and tests outside the United States. Metal Mate does not possess any such approval from PHMSA, and is therefore not authorized to mark cylinders that it manufactures as complying with DOT specifications. Any cylinder produced by Metal Mate marked as meeting a DOT specification is not approved, is not a DOT specification cylinder, and may not meet DOT performance standards.

The PHMSA approval process ¹ involves the careful review and onsite inspection of the applicant company's product documentation, cylinder manufacturing process, employee training records, and the presence and effectiveness of quality control measures at various stages during the cylinders' production. Since this review and inspection was not performed, DOT has no evidence that these cylinders are designed to withstand pressurization during filling and use and to safely contain hazardous materials transported in commerce. Improper design and manufacturing could potentially lead to a release of hazardous materials or failure of the cylinder.

¹ https://www.phmsa.dot.gov/hazmat/pressure-vessels-approvals/pressure-vessels-overview.

Consequently, as a safety measure, PHMSA wants to inform consumers that cylinders manufactured by Metal Mate, even if bearing a DOT specification marking, must not be used to transport hazardous materials in commerce to, from, or within the United States, or on a United States-registered aircraft. These cylinders may not perform to DOT performance standards, and may not be safe to use as one would use a DOT specification cylinder.

Issued in Washington, DC, on October 28, 2019.
William S. Schoonover,
Associate Administrator for Hazardous Materials Safety, Pipeline and Hazardous Materials Safety Administration.

[FR Doc. 2019-23878 Filed 10-31-19; 8:45 am]

BILLING CODE 4910-60-P